DEPARTMENT OF COMMERCE

National Oceanic and Atmospheric Administration

[I.D. 031406C]

New England Fishery Management Council; Public Meeting

AGENCY: National Marine Fisheries Service (NMFS), National Oceanic and Atmospheric Administration (NOAA), Commerce.

ACTION: Public meeting.

SUMMARY: The New England Fishery Management Council (Council) will hold a two-day Council meeting on April 4-5, 2006 to consider actions affecting New England fisheries in the exclusive economic zone (EEZ).

DATES: The meeting will be held on Tuesday and Wednesday, April 4 and 5, 2006, beginning at 8:30 a.m. each day.

ADDRESSES: The meeting will be held at the Hilton Hotel, 20 Coogan Boulevard, Mystic, CT 06355; telephone (860) 572-0731. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, April 4, 2006

Following introductions, the Council will receive reports from the Council Chairman and Executive Director, the NMFS Regional Administrator, Northeast Fisheries Science Center and Mid-Atlantic Fishery Management Council liaisons, NOAA General Counsel and representatives of the U.S. Coast Guard, NMFS Enforcement and the Atlantic States Marine Fisheries Commission. During this morning session, the Council will review a report from its Enforcement Committee and may consider action on net measuring procedures for trawl gear used in the groundfish and other fisheries and net stowage requirements that relate to the enforcement of fisheries regulations. This report will be followed by a briefing from the Standard Bycatch Reporting Methodology (SBRM) Committee on progress to date on the development of an amendment to implement an SBRM process across all NEFMC fishery management plans (FMPs). There will be an open public comment period to address items not listed on the agenda prior to a lunch break. During the afternoon session the Council will review and approve a range of essential fish habitat designation alternatives for inclusion in its EFH Omnibus Amendment. This will be followed by Council approval of a scoping document for a Northeast Multispecies FMP amendment to consider limited access, hard Total Allowable Catches (TACs) and dedicated access privileges in the small mesh multispecies fisheries for whiting, red hake and offshore hake.

Wednesday, April 5, 2006

During the morning session of the meeting, the Council will review preliminary analyses for a groundfish total allowable catch management program that was discussed at its January meeting in Portland, ME. The Council will then review scoping comments and approve goals and objectives for Amendment 11 to the Sea Scallop FMP. It also will provide guidance to the Scallop Committee on the development of alternatives. The alternatives may include resource allocation options involving the limited access and general category scallop fisheries and potential qualification criteria for a limited entry program for general category vessels. The Council will initiate action on Framework Adjustment 4 to the Monkfish FMP and provide guidance on the development of management alternatives. Finally, the Research Steering Committee will report on its discussions concerning 2006 research priorities and recommendations on several cooperative research final reports. The committee also will provide additional comments and recommendations on the process to review final reports.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: March 14, 2006.
Tracey L. Thompson,
Acting Director, Office of Sustainable Fisheries, National Marine Fisheries Service.

[FR Doc. E6-3897 Filed 3-16-06; 8:45 am]

BILLING CODE 3510-22-S